DEPARTMENT OF AGRICULTURE

Forest Service

Fresno County Resource Advisory Committee

AGENCY: Forest Service, USDA.

ACTION: Notice of meeting.

SUMMARY: The Fresno County Resource Advisory Committee will be meeting in Prather, California, August 17, 2011 and August 31, 2011. The purpose of the August 17th meeting will be to receive new project proposals for the next funding cycle. The committee will vote on proposed projects during the August 31st meeting.

DATES: The meetings will be held from 6 to 8:30 p.m.

ADDRESSES: The meetings will be held at the High Sierra Ranger District, 29688 Auberry Rd., Prather, CA. Send written comments to Robbin Ekman, Fresno County Resource Advisory Committee Coordinator, c/o Sierra National Forest, High Sierra Ranger District, 29688 Auberry Road, Prather, CA 93651 or electronically to rekman@fs.fed.us.

FOR FURTHER INFORMATION CONTACT: Robbin Ekman, Fresno County Resource Advisory Committee Coordinator, (559) 855-5355 ext. 3341.

SUPPLEMENTARY INFORMATION: The meeting is open to the public. Committee discussion is limited to Forest Service staff and Committee members. However, persons who wish to bring Payments to States Fresno County Title II project matters to the attention of the Committee may file written statements with the Committee staff before or after the meeting. Agenda items to be covered include: (1) Accept new project proposals and (2) Vote on proposed projects.

Dated: July 12, 2011.
Ray Porter,
District Ranger.

[FR Doc. 2011-18213 Filed 7-22-11; 8:45 am]

BILLING CODE 3410-11-M